SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: December 1-30, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f)

1. Chesapeake Appalachia, LLC, Pad ID: WGC, ABR-201205014.R1, Albany Township, Bradford County, Pa.; Consumptive Use of Up to 7.5000 mgd; Approval Date: December 2, 2016.

2. Chesapeake Appalachia, LLC, Pad ID: Iceman, ABR-201205016.R1, Wilmot Township, Bradford County, Pa.; Consumptive Use of Up to 7.5000 mgd; Approval Date: December 2, 2016.

3. SWEPI LP, Pad ID: Cotton Hanlon 595, ABR-201612001, Sullivan Township, Tioga County, Pa.; Consumptive Use of Up to 4.0000 mgd; Approval Date: December 2, 2016.

4. Anadarko E&P Onshore, LLC, Pad ID: COP Tract 356 Pad E, ABR-201112029.R1, Cummings Township, Lycoming County, Pa.; Consumptive Use of Up to 4.0000 mgd; Approval Date: December 5, 2016.

5. Anadarko E&P Onshore, LLC, Pad ID: Larrys Creek F&G Pad E, ABR-201112030.R1, Cummings Township, Lycoming County, Pa.; Consumptive Use of Up to 4.0000 mgd; Approval Date: December 5, 2016.

6. SWN Production Company, LLC, Pad ID: TONYA WEST, ABR-201201026.R1, New Milford Township, Susquehanna County, Pa.; Consumptive Use of Up to 4.9990 mgd; Approval Date: December 5, 2016.

7. SWN Production Company, LLC, Pad ID: WATTS, ABR-201202028.R1, New Milford Township, Susquehanna County, Pa.; Consumptive Use of Up to 4.9990 mgd; Approval Date: December 6, 2016.

8. Cabot Oil & Gas Corporation, Pad ID: KielarD P1, ABR-201112002.R1, Lathrop Township, Susquehanna County, Pa.; Consumptive Use of Up to 3.5750 mgd; Approval Date: December 12, 2016.

9. Cabot Oil & Gas Corporation, Pad ID: CareyR P1, ABR-201112023.R1, Harford Township, Susquehanna County, Pa.; Consumptive Use of Up to 3.5750 mgd; Approval Date: December 12, 2016.

10. Chesapeake Appalachia, LLC, Pad ID: Maris, ABR-201205010.R1, Auburn Township, Susquehanna County, Pa.; Consumptive Use of Up to 7.5000 mgd; Approval Date: December 12, 2016.

11. Carrizo (Marcellus), LLC, Pad ID: Trecoske North Pad, ABR-201201023.R1, Silver Lake Township, Susquehanna County, Pa.; Consumptive Use of Up to 2.1000 mgd; Approval Date: December 16, 2016.

12. Carrizo (Marcellus), LLC, Pad ID: Trecoske South Pad, ABR-201201024.R1, Silver Lake Township, Susquehanna County, Pa.; Consumptive Use of Up to 2.1000 mgd; Approval Date: December 16, 2016.

13. Talisman Energy USA Inc., Pad ID: Hemlock Valley, ABR-201201035.R1, Pike Township, Bradford County, Pa.; Consumptive Use of Up to 7.5000 mgd; Approval Date: December 16, 2016.

Authority: Pub. L. 91-575, 84 Stat. 1509 et seq., 18 CFR parts 806, 807, and 808.

Dated: January 13, 2017.
Stephanie L. Richardson,
Secretary to the Commission.

[FR Doc. 2017-01184 Filed 1-18-17; 8:45 am]

BILLING CODE 7040-01-P